FEDERAL COMMUNICATIONS COMMISSION

47 CFR Part 73

[DA 01-1998; MM Docket No. 01-106; RM-10105]

Radio Broadcasting Services; Pacific City and Scappoose, OR

AGENCY: Federal Communications Commission.

ACTION: Proposed rule; dismissal.

SUMMARY: John L. Zolkoske filed a petition for rule making requesting the allotment of Channel 282A at Pacific City Oregon, as the community's first local aural transmission service. See 66 FR 2682, May 15, 2001. Thunderegg Wireless, L.L.C (“Thunderegg”) filed a counterproposal and a subsequent request to withdraw its counterproposal. A showing of continuing interest is required before a channel will be allotted. It is the Commission's policy to refrain from making an allotment to a community absent an expression of interest. Therefore, since there is no continuing show of interest by either party, we will dismiss the instant petition and grant Thunderegg's request to withdraw its counterproposal.

FOR FURTHER INFORMATION CONTACT: Sharon P. McDonald, Mass Media Bureau, (202) 418-2180.

SUPPLEMENTARY INFORMATION: This is a synopsis of the Commission's Report and Order, MM Docket No. 01-106, adopted August 15, 2001 , and released August 24, 2001. The full text of this Commission decision is available for inspection and copying during normal business hours in the FCC Reference Information Center (Room CY-A257), 445 12th Street, SW., Washington, DC. The complete text of this decision may also be purchased from the Commission's copy contractors, International Transcription Service, Inc., (202) 857-3800, 1231 20th Street, NW., Washington, DC 20036.

Federal Communications Commission.
John A. Karousos,
Chief, Allocations Branch, Policy and Rules Division, Mass Media Bureau.

[FR Doc. 01-22205 Filed 9-4-01; 8:45 am]

BILLING CODE 6712-01-P